DEPARTMENT OF HOMELAND SECURITY

[DHS/S&T-N-2003-0001]

Privacy Act of 1974; System of Records

AGENCY: Department of Homeland Security.

ACTION: Notice of new Privacy Act system of records.

SUMMARY: The Department of Homeland Security (DHS) proposes a new system of records subject to the Privacy Act of 1974, as amended. This system, if adopted, will include personal information pertaining to individuals who submit information to DHS related to applications for designation of a technology as a Qualified Anti-Terrorism Technology (QATT) or for certification of a QATT for purposes of the government contractor defense and inclusion on an approved product list for DHS, both under provisions of Subtitle G of Title VIII of the Homeland Security Act of 2002—the Support Anti-Terrorism by Fostering Effective Technologies Act of 2002 (“the SAFETY Act” or “the Act”). The Homeland Security Act of 2002 is Public Law 107-296, 6 U.S.C. 441-444. System records will be disclosed to government contractors for processing, and some records may be disclosed to members of the public who request such disclosure.

DATES: Written comments must be submitted on or before October 27, 2003.

ADDRESSES: Please address your comments to the Privacy Office, U.S. Department of Homeland Security, Washington, DC 20528. You must identify the Docket Number DHS/S&T-N-2003-0001 at the beginning of your comments, and you should submit two copies of the comments. You may also submit comments via e-mail at privacy@dhs.gov. Please reference the Docket Number shown above in the subject line of the e-mail. If you wish to receive confirmation that DHS has received your comments, please include a self-addressed, stamped postcard with your request. DHS will make comments received available online at www.dhs.gov.

FOR FURTHER INFORMATION CONTACT: If you have any questions about this notice, please call Nuala O'Connor Kelly, Privacy Officer, U.S. Department of Homeland Security, Washington, DC 20528, Phone: 202-282-8000; Fax: 202-772-9738.

SUPPLEMENTARY INFORMATION: In accordance with the Privacy Act of 1974, as amended, 5 U.S.C. 552a, the DHS is publishing this notice of a proposed new agency system of records, to be designated as “SAFETY Act Records”. This system is intended to provide information pertinent to technologies submitted to DHS for designation or certification, or both, under provisions of the SAFETY Act.

The purpose of the proposed records system, if adopted, would be to create a list of technologies submitted by individuals, business entities, and other entities seeking liability protection under provisions of the SAFETY Act. The SAFETY Act provides incentives for the development and deployment of anti-terrorism technologies by creating a system of risk management and litigation management. The purpose of the Act is to ensure that the threat of liability does not deter potential manufacturers or sellers of anti-terrorism technologies from developing and commercializing technologies that could save lives. The Act therefore creates certain liability limitations for “claims arising out of, relating to, or resulting from an act of terrorism” where qualified anti-terrorism technologies have been deployed. The Act does not limit liability for harms caused by anti-terrorism technologies where no act of terrorism has occurred.

The DHS intends to compile and maintain these records in a secure electronic database designed, developed, operated and serviced by agency and/or contractor personnel who will be bound by restrictions of the Privacy Act. The system would be under the general supervision of the Office of Science and Technology, with technical support from the DHS's Office of the Chief Information Officer.

The DHS anticipates that the information collected and maintained in the proposed system may include, at a minimum, telephone numbers, home addresses, and other identifying information for individuals who submit technologies for designation or certification under the Act, as described above. It is anticipated that the number of such individual submitters may be very small relative to the total number of other submitters who submit technologies for certification or approval under the Act.

The DHS intends to use electronic means for collecting this information. System records would be subject to appropriate safeguards to prevent unauthorized disclosure or tampering.

The DHS is seeking public comments on the proposed system of records as described above.

S&T .0001

System Name:

SAFETY Act Records.

Security classification:

The proposed system may include national security classified information.

System location:

Office of Science and Technology, U.S. Department of Homeland Security, Washington, D.C. 20528. System records may be maintained, in whole or in part, by off-site contractors.

Categories of individuals covered by the system:

Individuals who submit technologies for designation or certification under the SAFETY Act, and who voluntarily submit protected personal information in connection with the submission.

Categories of records in the system:

For Privacy Act purposes, home telephone numbers and home addresses, and possibly other personal identification information, for individual submitters.

Authority for maintenance of the system:

Subtitle G of Title VIII of the Homeland Security Act of 2002 (Pub. L. 107-296)—the Support Anti-terrorism by Fostering Effective Technologies Act of 2002.

Purpose(s):

To maintain records of technologies submitted for designation or certification under the SAFETY Act.

Routine uses of records maintained in the system, including categories of users and the purposes of such uses:

Records from this system may be disclosed as permitted by 5 U.S.C. 552a(b). Records may be made available to contractors supporting DHS and the SAFETY Act records. Records may be made available or referred on an automatic basis to other Federal, state or local government authorities for regulatory, compliance, or law enforcement purposes. Records may be disclosed to contractors, grantees, experts, consultants, students, and others performing or working on a contract, service, grant, cooperative agreement or other assignment for the DHS, when necessary to accomplish an agency function related to this system of records. Records may be disclosed to a court, magistrate, or administrative tribunal in the course of presenting evidence, including disclosures to opposing counsel or witnesses in the course of civil discovery, litigation or settlement negotiations in response to a subpoena where relevant or potentially relevant to a proceeding, or in connection with criminal law proceedings. Information permitted to be released to the news media and the public may be made available unless it is determined that release of the specific information would constitute an unwarranted invasion of personal privacy. Information may be disclosed as necessary to respond to inquiries by Members of Congress on behalf of individual constituents who apply for SAFETY Act funding. A record may be disclosed as a routine use to the National Archives and Records Administration and to the General Services Administration in records management inspections conducted under the authority of 44 U.S.C. 2904 and 2906.

Disclosure to consumer reporting agencies:

Not applicable.

Policies and practices for storing, retrieving, accessing, retaining, and disposing of records in the system:

Storage:

Stored in a computer database maintained on magnetic disks and tape, or other electronic systems determined by DHS. Paper copies will also be retained.

Retrievability:

Retrievable by the names of individual submitters of technologies for designation or certification under the SAFETY Act or by a particular identifying number.

Safeguards:

Access to computerized records by electronic security precautions. With the exception of those uses discussed under the Routine Use of Records section of this notice, access restricted to agency personnel and contractors whose responsibilities require access.

Retention and disposal:

Records retained for an initial period of six years, and for additional six year periods if renewed.

System manager(s) and address:

Office of Science and Technology, U.S. Department of Homeland Security, Washington, DC 20528.

Notification procedure:

To obtain notification of whether the system contains a record pertaining to a particular individual, that person must submit a written request under procedures prescribed pursuant to the DHS's Freedom of Information Act/Privacy Act regulations, 68 FR 4056, January 27, 2003, to be codified at 6 CFR part 5.

Record access procedures:

See notification procedures above.

Contesting record procedures:

See notification procedures above. Where an individual believes the system has erroneously recorded or omitted information that is collected and maintained by the system, the individual will be afforded the opportunity to register, change, or delete that information.

Record source categories:

Individuals who submit technologies for designation or certification under the SAFETY Act.

Exemptions claimed for the system:

None.

Dated: September 23, 2003.
Nuala O'Connor Kelly,
Privacy Officer.

[FR Doc. 03-24423 Filed 9-23-03; 2:46 pm]

BILLING CODE 4410-10-P